DEPARTMENT OF JUSTICE

Office of Justice Programs

Agency Information Collection Activities: Proposed Collection; Comments Requested

ACTION: 60-day emergency notice of information collection under review: Certification of Child Safety Lock.

The Department of Justice, Bureau of Alcohol, Tobacco, Firearms and Explosives, Firearms Enforcement Branch has submitted the following new information collection request to the Office of Management and Budget (OMB) for review and clearance in accordance with emergency review procedures of the Paperwork Reduction Act of 1995. OMB approval has been requested by May 31, 2006. The proposed information collection is published to obtain comments from the public and affected agencies. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to Barbara Terrell, Firearms Enforcement Branch, 650 Massachusetts Avenue, NW., Room 7400, Washington, DC 20226.

Written comments and suggestions from the public and affected agencies concerning the proposed collection of information. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including though the use of appropriate automated, electronic, mechanical, or other technological collection techniques or other forms of information technology, e.g., permitting electronic submission of responses.

Overview of This Information

(1) Type of information collection: New.

(2) The title of the form/collection: Certification of Child Safety Lock.

(3) The agency form number, if any, and the applicable component of the department sponsoring the collection: Form Number: none. Bureau of Alcohol, Tobacco, Firearms and Explosives.

(4) Affected public who will be asked or required to respond, as well as a brief abstract: Primary: Business or other for-profit. Other: None. New regulations require that, prior to transferring a handgun to a nonlicensee, the licensed importer, manufacturer or dealer must certify that the nonlicensee has been or within 10 days will be provided with secure gun storage or a safety device for the handgun.

(5) An estimate of the total number of respondents and the amount of time estimated for an average respondent to respond/reply: It is estimated that 61,356 respondents will complete the certification in approximately 5 seconds.

(6) An estimate of the total public burden (in hours) associated with the collection: The estimated total public burden associated with this information collection is 62 hours.

If additional information is required contact: Lynn Bryant, Department Deputy Clearance Officer, Policy and Planning Staff, Justice Management Division, United States Department of Justice, 601 D Street, NW., Patrick Henry Building, Suite 1600, Washington, DC 20530.

Dated: May 31, 2006.
Lynn Bryant,
Department Deputy Clearance Officer, United States Department of Justice.

[FR Doc. 06-5112 Filed 6-2-06; 8:45 am]

BILLING CODE 4410-FY-M